DEPARTMENT OF THE INTERIOR

National Park Service

[NPS-NER-CACO-10593: 2310-0081-422]

Draft Environmental Impact Statement for the Herring River Restoration Project, Cape Cod National Seashore, Massachusetts

AGENCY: National Park Service, Interior.

ACTION: Notice of Availability.

SUMMARY: The National Park Service (NPS) announces the availability of a Draft Environmental Impact Statement (DEIS) for the Herring River Restoration Project in Cape Cod National Seashore, Massachusetts. The DEIS provides a systematic analysis of alternative approaches to restore the Herring River estuary to a more productive and natural condition after a century of diking and draining.

DATES: The NPS will accept comments on the DEIS from the public for 60 days after the date that the Environmental Protection Agency notices the availability of the DEIS in its regular Friday Federal Register listing. A public meeting will be held during the review period to facilitate the submission of public comment. Once scheduled, the meeting date will be announced via the Cape Cod National Seashore Web site (http://www.nps.gov/caco/), the NPS's Planning Environment and Public Comment (PEPC) Web site (http://parkplanning.nps.gov/herring_river), and a press release to area media.

ADDRESSES: The DEIS for the Herring River Restoration Project will be available for public review online at the NPS's PEPC Web site (http://parkplanning.nps.gov/herring_river). You may submit your comments by any one of several methods. The preferred method of comment is via the internet at (http://parkplanning.nps.gov/herring_river). You may also mail comments to Herring River Restoration Plan, Cape Cod National Seashore, 99 Marconi Site Road, Wellfleet, MA 02667. Finally, you may hand-deliver comments to Cape Cod National Seashore, 99 Marconi Site Road, Wellfleet, MA 02667.

FOR FURTHER INFORMATION CONTACT: George E. Price, Jr., Superintendent, Cape Cod National Seashore, 99 Marconi Site Road, Wellfleet, MA 02267; telephone (508) 771-2144.

SUPPLEMENTARY INFORMATION: The Herring River Restoration Project is a joint project of the Cape Cod National Seashore, the Town of Wellfleet, and the Town of Truro, Massachusetts Division of Ecological Restoration, U.S. Fish and Wildlife Service, the National Oceanic and Atmospheric Administration, and the Natural Resource Conservation Service.

The Herring River is the largest estuary on outer Cape Cod, encompassing more than 1,100 acres of degraded wetlands in a complicated network of five valleys: The Herring River, Mill Creek, Pole Dike Creek, Bound Brook, and Duck Harbor. The Chequessett Neck Road dike was built in 1908 at the mouth of the Herring River to restrict natural tidal flows. Ditches were constructed to drain the normally saturated flood plain soil. The once extensive salt marshes have been transformed into stands of invasive plants, shrubby thickets, and forests. The old salt marsh peat, deprived of the tides, has decomposed and compressed, sinking the surface of the flood plain as much as three feet. The decomposition of peat has released sulfuric acid that kills fish and other aquatic life, and low summertime dissolved oxygen has also harmed aquatic life.

The DEIS analyzes three action alternatives and the no action alternative, as described below: Alternative A would leave in place the current tide control structure at Chequessett Neck Road and continue management of the estuary without restoration.

Alternative B would employ an adaptive management strategy to restore tides in the lower reach of the Herring River up to a maximum high tide of approximately six feet. At this tide level flood mitigation of sensitive properties can be achieved without a secondary dike at Mill Creek.

Alternative C would employ an adaptive management strategy to restore tides up to the maximum Chequessett Neck Road dike capacity (10 foot vertical tide gate opening) with a new dike at Mill Creek that blocks all tidal influence. This alternative would maximize restoration in all sub-basins except Mill Creek. Mill Creek would remain unrestored, but no new flood proofing measures would be needed in Mill Creek.

Alternative D would employ an adaptive management strategy to restore tides up to the maximum Chequessett Neck Road dike capacity (10 foot vertical tide gate opening) with a new dike at Mill Creek. Mill Creek tides would be controlled by this secondary structure to the same level as that of Alternative B, the maximum level that can be achieved after flood proofing several low-lying properties. Tidal restoration would be maximized in all other sub-basins.

For Alternatives B and D, two options are considered for mitigating project impacts to the Chequessett Yacht & Country Club (CYCC) golf course, a private golf course in Mill Creek: (1) Raise low-lying fairways a minimum of two feet above proposed inundation levels, or (2) relocate low-lying fairways to an undeveloped upland area owned by CYCC.

Alternative D, with the option to raise existing low-lying fairways a minimum of two feet above proposed inundation levels, has been identified as the NPS Preferred Alternative. This alternative best fulfills the restoration objectives of the project while mitigating adverse impacts to developed properties.

Before including your address, phone number, email address, or other personal identifying information in your comment, you should be aware that your entire comment—including your personal identifying information—may be made publicly available at any time. While you can ask us in your comment to withhold your personal identifying information from public review, we cannot guarantee that we will be able to do so.

Dated: August 8, 2012.
Michael A. Caldwell,
Acting Regional Director, National Park Service, Northeast Region.

[FR Doc. 2012-24888 Filed 10-11-12; 8:45 am]

BILLING CODE 4310-WV-P